ENVIRONMENTAL PROTECTION AGENCY

[EPA-HQ-OPP-2009-1017; FRL-8827-2]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before July 16, 2010.

ADDRESSES: Submit your comments, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. Attention: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this Action Apply to Me?

This action is directed to the public in general. This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of requests from registrants to cancel 199 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1.—Registrations with Pending Requests for Cancellation
Product Number | Product Name | Active Ingredients
000004-00388 | Bonide Pyrenone Garden Spray Pressurized | Piperonyl butoxide Pyrethrins
000121-00084 | Cutter Insect Repellent Medusa | Bioallethrin
000192-00153 | Dexol Tender Leaf African Violet Insect Spray | Tetramethrin Phenothrin
000192-00184 | Dexol Hornet & Wasp Killer II | Tetramethrin Phenothrin
000192-00189 | Dexol Flying & Crawling Insect Killer II | Tetramethrin Phenothrin
000192-00196 | Dexol Flea Free Carpet Spray | Tetramethrin Phenothrin Pyriproxyfen
000228-00636 | Imida E-AG 5 F ST Insecticide | Imidacloprid
000228-00656 | ETI 105 28 I | Imidacloprid
000228-00668 | Imida E-Pro 4F Pre/Post Construction Insecticide | Imidacloprid
000228-00682 | ETI 105 12 I | Imidacloprid
000228-00691 | Imida E-Pro 0.5 - Turf Insecticide | Imidacloprid
000228-00692 | Imida E-Pro 1% G - ORN Insecticide | Imidacloprid
000228-00693 | Imida E-AG - 4F Cotton Insecticide | Imidacloprid
000228-00694 | Imida E-AG 1.6 F Insecticide | Imidacloprid
000228-00696 | ET-025 | Imidacloprid
000228-00697 | ET-024 | Imidacloprid
000228-00701 | ETI 105 25 I | Imidacloprid
000239-02512 | Ortho Indoor Insect Killer | Bioallethrin Phenothrin
000270-00218 | Flys-Off Insect Repellent for Dogs | Butoxypolypropylene glycol Pyrethrins Piperonyl Butoxide
000270-00225 | Flys-Off Lotion Insect Repellent for Dogs | Butoxypolypropylene glycol Pyrethrins Piperonyl Butoxide
000270-00257 | Farnam Permacap ME-2 | Permethrin
000270-00269 | Purina Hard Hitter Aqueous Spray | Permethrin
000270-00337 | Sulfodene Scratchex Flea & Tick Shampoo-B for Dogs & Cats | Bioallethrin MGK 264 Piperonyl Butoxide
000270-00338 | Sulfodene Scratchex Formula 36 Power Dip | Bioallethrin MGK 264 Piperonyl Butoxide
000270-00352 | Flea and Tick Mist | Allethrins MGK 326 MGK 264
000270-00353 | Fastact 2 Long-Acting Flea & Tick Dip | MGK 264 Permethrin Esbiothrin
000270-00365 | Mycodex Pet Shampoo with Permethrin | Permethrin
000279-03026 | Ammo Technical Insecticide | Cypermethrin
000279-03039 | Pounce Mushroom Spray Mist Insecticide | Permethrin
000279-03040 | Pounce Mushroom Dust Insecticide | Permethrin
000279-03092 | Flea Insecticide | Permethrin
000279-03111 | Pounce WP Insecticide | Permethrin
000279-03144 | Astro Interior Insecticide | Permethrin
000279-03186 | Pounce 25 Std Seed Treatment Insecticide | Permethrin
000279-03187 | Pounce 3.2 St Seed Treatment Insecticide | Permethrin
000402-00076 | Hill Vapo-Mist “35” | MGK 264 Permethrin Piperonyl butoxide
000499-00239 | Whitmire X-clude PT 1600A | MGK 264 Piperonyl butoxide Pyrethrins
000499-00495 | TC-233 | S-Bioallethrin Phenothrin
000538-00026 | Scotts Proturf Weedgrass Preventer | Bensulide
000538-00072 | Scotts Super Turf Builder Plus 2 for Grass | Mecoprop-P 2,4-D
000538-00083 | Scotts Shrub & Tree Weed Preventer Plus Fertilizer 20-4-8 | Trifluralin
000538-00102 | Stop Weeds Before They Start | Trifluralin
000538-00155 | Halts Plus Turf Builder | Bensulide
000538-00164 | Goosegrass/Crabgrass Control | Oxadiazon
000538-00167 | Super Plus 2 Weed Control Plus Lawn Fertilizer | Dicamba Mecoprop-P 2,4-D
000538-00183 | Proturf Fluid Fungicide | Thiophanate-methyl Iprodione
000538-00196 | Proturf Fertilizer Plus Turf Weedgrass Control | Pendimethalin
000538-00205 | Scotts Lawn Pro Weed & Feed Weed Control Plus Lawn Fertilizer | Mecoprop-P 2,4-D
000538-00208 | Fertilizer Plus Weed Control | Dicamba 2,4-D
000538-00209 | Turf Builder w/Plus 2 For Lawns Plus Lawn Fertilizer | Dicamba 2,4-D
000538-00210 | Scotts Turf Builder Plus 2 for Lawns Plus Lawn Fertilizer | Dicamba 2,4-D
000538-00213 | Proturf Turf Fertilizer Plus Preemergent Weed Control | Pendimethalin
000538-00215 | Scotts Lawn Pro Weed and Feed | Mecoprop-P 2,4-D
000538-00227 | Fertilizer Plus Weedgrass Control | Pendimethalin
000538-00251 | Fertilizer with Weed Control | Mecoprop 2,4-D Pendimethalin
000538-00257 | Fertilizer Plus Preemergent Weed Control II | Pendimethalin Oxadiazon
000538-00294 | Grubex II | Benzoic acid, 4-chloro-,2-benzoyl-2-(1,1-dimethylethyl) hydrazide
000748-00068 | Para-Dichlorobenzene | Paradichlorobenzene
000769-00598 | R & M Flea & Tick Shampoo #6 | Bioallethrin MGK 264 Phenothrin
000769-00604 | R & M Carpet Powder #5 | Phenothrin
000769-00609 | R & M Aerosol Flying Insect Spray | Phenothrin Tetramethrin
000769-00709 | SMCP 53% Neutral Copper | Basic copper sulfate
000769-00840 | Miller Tupersan Granular | Siduron
000769-00931 | Drop Dead Household Fly & Insect Spray | Tetramethrin Phenothrin
001021-01217 | D-Trans Allethrin (technical grade) | Bioallethrin
001021-01242 | MGK Esbiol Concentrate 90% (F-1967) | S-Bioallethrin
001021-01291 | Esbiol Technical | S-Bioallethrin
001021-01390 | Multicide Intermediate 2119 | Bioallethrin Phenothrin
001021-01428 | Multicide Pynamin Forte 90% Concentrate | d-Allethrin
001021-01638 | Multicide Intermediate 2661 | d-Allethrin Phenothrin
001021-01653 | Evercide Permethrin 80% Concentrate 25/75 | Permethrin
001021-01725 | Evercide Pressurized Pet Spray 2642 | Pyriproxyfen Permethrin Pyrethrins
001021-01835 | Permethrin 3.2 T&O | Permethrin
001021-01836 | Permethrin 3.2 TC | Permethrin
001021-01837 | Permethrin 3.2 PCO | Permethrn
001021-01838 | Permethrin 10% EC | Permethrin
001677-00111 | Ecolab Pyrethrin Spray | Pyrethrins MGK 264 Piperonyl butoxide
001677-00112 | Entrol | Pyrethrins MGK 264 Piperonyl butoxide
002596-00071 | Hartz Rid Flea Dog Shampoo with Allethrin | Bioallethrin MGK 264
002596-00075 | Hartz Luster Bath for Cats- with Allethrin | Bioallethrin MGK 264 Phenothrin
002596-00076 | Hartz Luster Bath for Dogs- with Allethrin | Bioallethrin MGK 264 Phenothrin
002596-00124 | Hartz Control Pet Care System Flea and Tick Conditioning Shampoo for Dogs | Bioallethrin MGK 264
002596-00133 | Hartz Rid Flea Conditioning Dog Shampoo with Aloe and Allethrin | Bioallethrin MGK 264
002596-00149 | Hartz Ref. 111 | Bioallethrin MGK 264 S-Methoprene
002724-00453 | Zoecon 9206 Fogger | Permethrin
002724-00464 | Sandoz 9309 Fogger | S-Methoprene Permethrin
002724-00465 | Sandoz 9311 Aerosol | S-Methoprene Permethrin
002724-00555 | Speer Bee, Wasp, Hornet & Yellow Jacket Jet-Stream Killer | Bioallethrin Phenothrin
002724-00582 | Speer Roach Spray I | Permethrin
002724-00584 | SPI Total Release Aerosol Fogger II | Bioallethrin Esfenvalerate
002724-00590 | Speer Flea & Tick Spray III | Permethrin
002724-00591 | SPI Residual Pressurized Spray I | Allethrins MGK 264 Permethrin
002724-00593 | Speer Residual Flea and Tick Dip | MGK 264 Permethrin
002724-00608 | Permethrin House & Carpet Residual Spray | Permethrin
002724-00654 | HHP General Purpose Aqueous Insecticide | Permethrin
002724-00678 | Speer Roach Spray 1 with Nylar | Pyriproxyfen Permethrin
002724-00679 | Speer 3.5% Permethrin Dry Fogger with Nylar | Pyriproxyfen Permethrin
002724-00680 | SPI Deltamethrin Aerosol Insecticide | S-Bioallethrin Deltamethrin
002724-00693 | Pramex H&G Ready to Use Insect Control | Permethrin
002724-00694 | Pramex 13.3% H&G Insect Control | Permethrin
002724-00714 | Elite Permethrin Flea and Tick Dip | Permethrin
002724-00715 | Elite Permethrin Flea & Tick Dip II | MGK 264 Permethrin
002724-00722 | Elite Permethrin 13.3% EC for Insects | Permethrin
002724-00724 | Elite Flea and Tick Shampoo VII | Permethrin
002724-00746 | SPHSOP-1 Spot-On | Permethrin
002724-00771 | Permalool Home & Carpet Spray | Permethrin Prallethrin Linalool MGK 264
002724-00782 | Permethrin Plus Pet Spray | MGK 264 Permethrin Prallethrin Pyriproxyfen
002724-00783 | Permethrin Plus Pet Spray II | MGK 264 Permethrin Prallethrin Pyriproxyfen
004822-00173 | Raid Household Flying Insect Killer Formula 4 | d-Allethrin Phenothrin
004822-00290 | Raid House and Garden Bug Killer Formula 6 | Bioallethrin Phenothrin
004822-00300 | Raid Mosquito Coils | Bioallethrin
004822-00437 | Off! Repellent DH | d-Allethrin
005887-00118 | Black Leaf Fog-it 1 Shot Automatic Insecticide Fogger | Phenothrin Tetramethrin
005887-00123 | Black Leaf Fly & Mosquito Formula III Spray | Phenothrin Tetramethrin
005887-00126 | Black Leaf White Fly & Mealy Bug Spray | Phenothrin
005887-00158 | Black Leaf Wasp and Hornet Killer Formula IV | Phenothrin Tetramethrin
005887-00159 | Black Leaf Flying & Crawling Insect Killer | Phenothrin Tetramethrin
008660-00023 | Vertagreen Crabgrass Preventer with Tupersan | Siduron
008660-00087 | Vertagreen Fertilizer for Professional Turf with Tupersan | Siduron
008845-00063 | Hot Shot Flying Insect Killer | Phenothrin Tetramethrin
008845-00067 | Hot Shot Hit Flying Insect Killer Formula 621 | Phenothrin Tetramethrin
008845-00068 | Hot Shot House and Garden Insect Killer Formula 721 | Phenothrin Tetramethrin
008845-00082 | Hot Shot Indoor/Outdoor Ornamental Plant Spray Formula 116 | Allethrins Phenothrin
008845-00083 | Hot Shot Flea and Tick Spray for Dogs and Cats Formula 117 | Phenothrin Tetramethrin
008845-00084 | Hot Shot Flea & Tick Spray - Formula 118 | Phenothrin Tetramethrin
008848-00052 | 707 Formula Roach & Insect Bomb | MGK 264 Piperonyl butoxide Pyrethrins
009152-00018 | Acidisol | Phosphoric Acid Dodecylbenzenesulfonic acid
009444-00084 | CB MothOFF | Permethrin
009444-00136 | Time Mist Air Sanitizer | Triethylene glycol Dipropylene glycol Alkyl* dimethyl benzyl ammonium chloride *(61% C12, 23% C14, 11% C16, 5% C18)
009444-00143 | CB-305 Fogger | Esfenvalerate Bioallethrin
009444-00173 | CV-40 AG | Piperonyl butoxide Pyrethrins
009444-00174 | CB-40-2 WB for Insect Control | Piperonyl butoxide Pyrethrins
009444-00235 | Country Vet 38 | Piperonyl butoxide Pyrethrins
009688-00038 | Total Release Insect Fogger “A” | Bioallethrin Phenothrin
009688-00041 | Chemsico Dual Flea Control | Bioallethrin MGK 264 Phenothrin
009688-00051 | Chemsico Automatic Insect Fogger “B” | Bioallethrin MGK 264 Phenothrin
009688-00054 | Chemsico Total Release Fogger “C” | Phenothrin Tetramethrin
009688-00079 | Chemsico Tralomethrin Insecticide A | Bioallethrin Tralomethrin
009688-00086 | Chemsico Tralomethrin Insecticide B | Bioallethrin Tralomethrin
009688-00090 | Chemsico Spray Insecticide | Phenothrin
009688-00117 | Chemsico Wasp & Hornet Killer T | Bioallethrin Tralomethrin
009688-00125 | Chemsico Tralomethrin Plus D-Trans Allethrin Insecticide S | Bioallethrin Tralomethrin
009688-00145 | Saga MC | Bioallethrin Tralomethrin
009688-00151 | Tralex Aerosol | Bioallethrin MGK 264 Tralomethrin
009688-00164 | Chemsico Aerosol Insecticide T | Bioallethrin Tralomethrin
009688-00276 | Chemsico Insecticide Concentrate 320P | Pyrethrins
010404-00058 | Lesco Granular Turf Fungicide | Triadimefon
010404-00065 | Lesco Bayleton 0.5% Plus Fertilizer | Triadimefon
010806-00032 | Little Pal Spray Mist | MGK 264 Piperonyl Butoxide Pyrethrins
010806-00034 | Contact Personal Insect Repellent | MGK 326 MGK 264 Dethyl Toluamide
010806-00065 | Contact Flea & Tick Killer III | Pyrethrins Permethrin
019713-00163 | Drexel Propachlor Flake Technical | Propachlor
028293-00125 | Unicorn Permethrin RTU Spray | Permethrin
028293-00147 | Unicorn 14-day Flea & Tick Spray | Pyrethrins Permethrin
028293-00148 | Unicorn Permethrin Pet Dip II | Permethrin
028293-00154 | Unicorn Pertran Aerosol | Allethrins Permethrin
028293-00155 | Unicorn Crawling & Flying Insect Spray E.C. | Permethrin
028293-00166 | Unicorn 14-day Flea & Tick Spray II | Pyrethrins Permethrin
028293-00179 | Unicorn General Purpose Aqueous Insecticide II | Permethrin
028293-00181 | Unicorn Insecticide E.C.13.3% Crawling Insect Spray | Permethrin
028293-00182 | Unicorn Backup Pour-On Insecticide | Permethrin
028293-00185 | Unicorn Liquid Plant Spray No. 1 | Pyrethrins Permethrin
028293-00218 | Unicorn Growers Spray | Pyrethrins
028293-00231 | Unicorn Aqueous Pressurized Spray | Bioallethrin Permethrin
028293-00263 | Unicorn Permethrin Pour-On Insecticide II | Permethrin
028293-00290 | Unicorn Permethrin WB Spray | Permethrin
028293-00294 | Unicorn .20% Permethrin WB II | Permethrin
028293-00326 | Unicorn Permethrin Dust II | Permethrin
028293-00330 | Unicorn 5.7% Permethrin Termite Concentrate | Permethrin
028293-00331 | Unicorn Ready-to-Use Permethrin Garden Spray | Permethrin
034704-00110 | Clean Crop 6% Malathion Grain Protector | Malathion
035935-00064 | ET-016 | Imidacloprid
045600-00019 | Insecta Spray | Permethrin
046515-00021 | Super K-Gro Liquid House Plant Insect Spray | Phenothrin Tetramethrin
046515-00030 | Indoor and Outdoor Plant and African Violet Spray | Phenothrin Tetramethrin
046515-00040 | K Rid Flying Insect Killer 2 | Phenothrin Tetramethrin
046515-00041 | K Rid Ant and Roach Killer 3 | Phenothrin
046515-00043 | House & Garden Bug Killer | Phenothrin Tetramethrin
046515-00044 | K Rid Wasp & Hornet Killer 2 | Phenothrin Tetramethrin
053883-00057 | Martin's Pet Guard Flea and Tick Spray | Pyrethrins Permethrin
055206-00003 | BVA Spray 15 | Mineral Oil - includes paraffin oil from 063503
060063-00038 | TPTH 80 WP | Fentin hydroxide
066330-00212 | Malathion 25 WP | Malathion
066330-00213 | Stored Grain Dust M-1 | Malathion
066330-00219 | Malathion ULV | Malathion
066330-00227 | Simazine 4 FL Herbicide | Simazine
067690-00036 | Camelot | Copper salts of fatty and rosin acids
068077-00001 | Brilliance Flea & Tick Shampoo | Piperonyl butoxide Pyrethrins
070627-00040 | Johnson Wax Professional Wasp & Hornet Killer | Bioallethrin Phenothrin
071096-00010 | Slug-fest All Weather Formula RTU | Metaldehyde
073049-00362 | Esbiothrin Mosquito Repellent Coils | Bioallethrin
073049-00363 | Derringer Mosquito Mats | Bioallethrin
082542-00005 | Ethofumesate Technical | Ethofumesate
083558-00012 | Hexazinone Technical | Hexazinone
084396-00008 | Numb Bug Fogging and Contact Spray | Bioallethrin MGK 264 Piperonyl Butoxide
CA770445 | Niagara Citrus Sol Oil Light Medium Code 30390 and Gowan Malathion 8 Tank Mix | Mineral Oil - includes paraffin oil from 063503
FL760015 | Pyrocide Fogging Formula 7067 for ULV Mosquito Aduticiding | Piperonyl butoxide Pyrethrins
MS060006 | Co-Starr | Gyphosate-isopropylammonium Dicamba
PA860009 | Prentox Vapon 4E | Dichlorvos

Table 2 of this unit includes the names and addresses of record for all registrants of the products in Table 1 of this unit, in sequence by EPA company number. This number corresponds to the first part of the EPA registration numbers of the products listed in this unit.

Table 2.—Registrants Requesting Voluntary Cancellation
EPA Co. Number | Company Name and Address
4 | Bonide Products, Inc. Agent Registrations By Design, Inc. PO Box 1019 Salem, VA 24153-3805
121 | Spectrum, a Div. of United Industries Corp. PO Box 142642 St. Louis, MO 63114-0642
192 | Value Gardens Supply, LLC D/B/A Garden Value Supply PO Box 585 Saint Joseph, MO 64502
228 | Nufarm Americas INC 150 Harvester Dr, Suite 200 Burr Ridge, IL 60527
239 | The Scotts Company 14111 Scottslawn Road Marysville, OH 43041
270 | Farnam Companies, Inc. D/B/A Central Life Sciences 301 West Osborn Road Phoenix, AZ 85013
279 | FMC Corp. Agricultural Products Group 1735 Market St., RM 1978 Philadelphia, PA 19103
402 | Hill Manufacturing Co., Inc. 1500 Jonesboro Rd SE Atlanta, GA 30315
499 | Whitmire Micro-Gen Research Laboratories, Inc. Agent Name: BASF Corp. 3568 Tree Court Industrial Blvd. St. Louis, MO 63122-6682
538 | The Scotts Company 14111 Scottslawn Road Marysville, OH 43041
748 | PPG Industries, Inc. 1001 G St, NW, Suite 500 West Washington, DC 20001
769 | Value Gardens Supply, LLC PO Box 585 Saint Joseph, MO 64502
1021 | McLaughlin Gormley King Co., 8810 Tenth Ave. North, Minneapolis, MN 55427-4319
1677 | Ecolab Inc. 370 North Wabasha St. St. Paul, MN 55102
2596 | The Hartz Mountain Corp. 400 Plaza Drive Secaucus, NJ 07094
2724 | Wellmark International 1501 E. Woodfield Rd, Suite 200 West Schaumburg, IL 60173
4822 | S.C. Johnson & Son, Inc. 1525 Howe St. Racine, WI 53403
5887 | Value Gardens Supply, LLC D/B/A Garden Value Supply PO Box 585 Saint Joseph, MO 64502
8660 | United Industries Corp. D/B/A Sylorr Plant Corp PO Box 14642 St. Louis, MO 63114-0642
8845 | Spectrum, a div. of United Industries Corp. PO Box 142642 St. Louis, MO 63114-0642
8848 | Safeguard Chemical Corp. 411 Wales Ave. Bronx, NY 10454
9152 | Morgan-Gallacher Inc. 8707 Millergrove Dr. Santa Fe Springs, CA 90670
9444 | Waterbury Companies, Inc. 129 Calhoun St., P.O. Box 640 Independence, LA 70443
9688 | Chemsico Div. of United Industries Corp. PO Box 142642 St. Louis, MO 63114-0642
10404 | Lesco, Inc. 1301 East 9th St., Suite 1300 Cleveland, OH 44114-1849
10806 | Contact Industries Div. of Safeguard Chemical Corp. 411 Wales Ave Bronx, NY 10454
19713 | Drexel Chemical Company 1700 Channel Ave. PO Box 13327 Memphis, TN 38113-0327
28293 | Phaeton Corporation Agent Registrations By Design, Inc. PO Box 1019 Salem, VA 24153
34704 | Loveland Products, Inc. PO Box 1286 Greeley, CO 80632-1286
35935 | Nufarm Limited PO Box 13439 RTP, NC 27709
45600 | Insecta Marketing, Inc. 3601 NE 5th Ave. Oakland Park, FL 33334-2214
46515 | Celex Div. of United Industries Corp. PO Box 142642 St. Louis, MO 63114-0642
53883 | Control Solutions, Inc. 427 Hide Away Circle Cub Run, KY 42729
55206 | B V Associates Inc. PO Box 930301 Wixom, MI 48393
60063 | Sipcam Agro USA, Inc. 2520 Meridian Pkwy., Suite 525 Durham, NC 27713
66330 | Arysta Lifescience North America, LLC 155401 Weston Parkway, Suite 150 Cary, NC 27513
67690 | Sepro Corp. 11550 N. Meridian St., Suite 600 Carmel, IN 46032
68077 | First Priority Inc. 1590 Todd Farm Drive Elgin, IL 60123-1146
70627 | Johnson Diversey, Inc. 8310 16th St., PO Box 902 Sturtevant, WI 53177
71096 | OR-CAL Inc. 17220 Westview Rd. Oswego, OR 97034
73049 | Valent BioSciences Corporation 870 Technology Way, Suite 100 Libertyville, IL 60048-6316
82542 | Source Dynamics, LLC 10039 E. Troon North Drive Scottsdale, AZ 85262
83558 | Celsius Property B.V., Amsterdam (NL) 4515 Falls of Neuse Rd, Suite 300 Raleigh, NC 27609
84396 | Sungro Products, LLC 810 E. 18th St. Los Angeles, CA 90021
CA770445 | California Dept. of Food and Agriculture 560 J Street, Room 220 Sacramento, CA 95814
FL760015 | Lee County Mosquito Control District PO Box 60005 Fort Myers, FL 33906
MS060006 | Albaugh, Inc. 1525 NE 36th Street Ankeny, IA 50021
PA860009 | Prentiss, INC. 3600 Mansell Rd, Suite 350 Alpharetta, GA 30022

III. What is the Agency's Authority for Taking this Action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: June 3, 2010.
Richard P. Keigwin, Jr.,
Director, Pesticide Re-evaluation Division, Office of Pesticide Programs.

[FR Doc. 2010-14518 Filed 6-15-10; 8:45 am]

BILLING CODE 6560-50-S